DEPARTMENT OF JUSTICE

Drug Enforcement Administration

Manuafacturer of Controlled Substances; Notice of Application

Pursuant to Section 1301.33(a) of Title 21 of the Code of Federal Regulations (CFR), this is notice that on January 29, 2004, Rhodes Technologies, 498 Washington Street, Coventry, Rhodes Island 02816, made application by renewal to the Drug Enforcement Administration (DEA) for registration as a bulk manufacturer of the basic classes of controlled substances listed below.

Drug | Schedule
Tetrahydrocannabinols (7370) | I
Methylphenidate (1724) | II
Codeine (9050) | II
Dihydrocodeine (9120) | II
Oxycodone (9143) | II
Hydromorphone (9150) | II
Hydrocodone (9193) | II
Thebaine (9333) | II
Noroxymorphone (9668) | II
Fentanyl (9801) | II

The firm plans to produce bulk products for conversion and distribution to its customers.

Any other such applicant and any person who is presently registered with DEA to manufacture such substance may file comments or objections to the issuance of the proposed registration.

Any such comments or objections may be addressed, in quintuplicate, to the Deputy Assistant Administrator, Office of Diversion Control, Drug Enforcement Administration, United States Department of Justice, Washington, DC 20537, Attention: Federal Register Representative, Office of Chief Counsel (CCD) and must be filed no later than May 14, 2004.

Dated: March 5, 2004.
William J. Walker,
Deputy Assistant Administrator, Office of Diversion Control, Drug Enforcement Administration.

[FR Doc. 04-5781 Filed 3-12-04; 8:45 am]

BILLING CODE 4410-09-M